OFFICE OF THE UNITED STATES TRADE REPRESENTATIVE

Identification of Countries That Deny Adequate Protection, or Market Access, for Intellectual Property Rights Under Section 182 of the Trade Act of 1974

AGENCY: Office of the United States Trade Representative.

ACTION: Notice.

SUMMARY: Notice is hereby given that the United States Trade Representative (USTR) has submitted its annual report on the identification of those foreign countries that deny adequate and effective protection of intellectual property rights or deny fair and equitable market access to United States persons that rely upon intellectual property protection, and those foreign countries determined to be priority foreign countries, to the Committee on Finance of the United States Senate and the Committee on Ways and Means of the United States House of Representatives, pursuant to section 182 of the Trade Act of 1974, as amended (the Trade Act) (19 U.S.C. 2242).

DATES: This report was submitted on April 30, 2001.

ADDRESSES: Office of the United States Trade Representative, 600 17th Street, N.W., Washington, DC 20508.

FOR FURTHER INFORMATION CONTACT: Kira Alvarez, Director for Intellectual Property, (202) 395-6864, or Stephen Kho, Assistant General Counsel, (202) 395-3581.

SUPPLEMENTARY INFORMATION: Section 182 of the Trade Act requires USTR to identify within 30 days of the publication of the National Trade Estimates Report all trading partners that deny adequate and effective protection of intellectual property rights or deny fair and equitable market access to United States persons that rely upon intellectual property protection. Those countries that have the most onerous or egregious acts, policies, or practices that have the greatest adverse impact (actual or potential) on the relevant United States products must be identified as “priority foreign countries,” unless they are entering into good faith negotiations or are making significant progress in bilateral or multilateral negotiations to provide adequate and effective protection for intellectual property rights. In identifying countries in this manner, the USTR is directed to take into account the history of intellectual property laws and practices of the foreign country, including any previous identifications as a priority foreign country, and the history of efforts of the United States, and the response of the foreign country, to achieve adequate and effective protection and enforcement of intellectual property rights. In making these determinations, the USTR must consult with the Register of Copyrights, the Commissioner of Patents and Trademarks, other appropriate officials of the Federal Government and take into account information from other sources such as information submitted by interested persons.

On April 30, 2001, USTR identified 51 trading partners that deny adequate and effective protection of intellectual property or deny fair and equitable market access to United States artists and industries that rely upon intellectual property protection. USTR also reaffirmed Ukraine's designation as a Priority Foreign Country, which occurred on March 12, 2001. In addition, USTR again designed Paraguay and China for “Section 306 monitoring” to ensure both countries comply with the commitments made to the United States under bilateral intellectual property agreements.

USTR also announced placement of 16 trading partners on the “Priority Watch List”: Argentina, Costa Rica, the Dominican Republic, Egypt, the European Union, Hungary, India, Israel, Korea, Lebanon, Malaysia, the Philippines, Russia, Taiwan, and Uruguay. USTR placed 32 trading partners on the “Watch List.” Countries that were not mentioned in the report last year but are on the Watch List this year include: New Zealand, the Slovak Republic, and the United Arab Emirates. In addition, out-of-cycle reviews will be conducted of Costa Rica, Malaysia, Lithuania. While Georgia, the Kyrgyz Republic, Japan and the Bahamas are not listed. USTR will also conduct out-of-cycle reviews of each later in the year, and of Japan and the Bahamas as warrated.

Kira M. Alvarez,
Director of Intellectual Property.

[FR Doc. 01-11461 Filed 5-7-01; 8:45 am]

BILLING CODE 3190-01-M